DEPARTMENT OF THE TREASURY

Customs Service

Solicitation of Applications for Membership on Customs COBRA Fees Advisory Committee

AGENCY: U.S. Customs Service, Department of the Treasury.

ACTION: General notice.

SUMMARY: This document sets forth amended criteria for membership on the Customs COBRA Fees Advisory Committee and requests that new applications be submitted for membership on the committee. The amended criteria limit membership on the Committee to one U.S. Customs representative and up to eight parties that are directly subject to the payment of COBRA user fees. Also, the amended criteria make clear that a party is ineligible to serve on the Committee if the party serves on another advisory committee chartered by the Department of the Treasury, including any separate bureau, service or other office within the Department of the Treasury. Applications previously received for membership on the Committee will need to be resubmitted for consideration under this document.

DATES: New applications for membership will be accepted until July 24, 2000.

ADDRESSES: Applications should be addressed to Richard Coleman, Trade Compliance Team, U.S. Customs Service, 1300 Pennsylvania Avenue, NW., Room 5.2-A, Washington, D.C. 20229, Attention: COBRA 2000.

FOR FURTHER INFORMATION CONTACT: Richard Coleman, Trade Compliance Team, U.S. Customs Service, 202-927-0563.

SUPPLEMENTARY INFORMATION:

Background

By enactment of Public Law 106-36, the Miscellaneous Trade and Technical Corrections Act of 1999, section 13031 of the Consolidated Omnibus Budget Reconciliation Act (COBRA) of 1985 (19 U.S.C. 58c) was amended by adding language which directs the Commissioner of Customs to establish an advisory committee whose membership will consist of representatives from the airline, cruise ship and other transportation industries that may be subject to fees under section 13031.

The Committee, in accordance with the statute, will advise the Commissioner of Customs on issues related to the performance of inspectional services of the United States Customs Service. This advice will include, but not be limited to, issues such as the time periods during which inspectional services should be performed, the proper number and deployment of inspectional officers, the level of fees and the appropriateness of any proposed fee.

In accordance with the direction to create the advisory committee, Customs published a document in the Federal Register (65 FR 6254) on February 8, 2000, establishing criteria and procedures for the selection of members on a Customs COBRA Fees Advisory Committee. Customs subsequently decided to amend these criteria principally to limit membership to applicants who are directly subject to COBRA user fees. Customs believes that these parties would be better-suited to serve on the committee. A revised charter for the committee will be duly filed. This document sets forth the amended criteria from that in the February 8, 2000, document and again solicits applications for this advisory committee.

Structure of Committee

The Committee will consist of one U.S. Customs representative and up to eight industry members, selected to fairly balance the points of view to be represented and functions to be performed. The Deputy Commissioner of the U.S. Customs Service will be the Customs representative and will chair the Committee. The Deputy Commissioner may designate another official to serve in his absence as Acting Chairperson for purposes of presiding over a meeting of the Committee or performing any other duty of the chairperson. Two senior managers representing the Office of Finance and the Office of Field Operations of the U.S. Customs Service will serve as technical representatives to the chairperson. The Committee will be in existence unless, or until, such time as its establishment is repealed by Congress.

Industry Members Sought

Industry members will be selected by the Commissioner of Customs from parties in various sectors of the transportation industry that directly pay COBRA user fees. The parties include operators of any of the following: railways, trucks, barges, commercial cargo vessels, commercial passenger vessels, general aviation, and passenger aircraft.

Whenever possible, the Commissioner will seek to select two members from among passenger aircraft operators and one member each from operators of railways, trucks, barges, commercial cargo vessels, commercial passenger vessels and general aviation. Additional passenger aircraft operators may be selected as members if the other sectors do not have a qualified applicant.

No person who is required to register under the Foreign Agents Registration Act or representative of a foreign principal may serve on the Advisory Committee.

It is noted that certain criteria set forth in the prior notice published soliciting applicants for the Customs COBRA Fees Advisory Committee have been amended. In particular, membership on the Committee is now restricted to parties who directly pay COBRA user fees. Thus, trade associations and similar transportation industry representatives are eliminated from possible membership on the Committee.

Also, the amended criteria make clear that a party who serves on another advisory committee is ineligible for membership on the Customs COBRA Fees Advisory Committee if the other advisory committee is chartered by the Department of the Treasury, including any separate bureau, service or other office within the Department of the Treasury.

Applicants must demonstrate professional or personal qualifications relevant to the purpose, functions and tasks of the Committee. Appointments will be made with the objective of creating a diverse and balanced body with a variety of interests, backgrounds and viewpoints. Accordingly, because members will be selected based on their individual credentials and qualifications, membership on the Committee will be personal to the appointees; members will not be allowed to designate alternates to represent them at Committee meetings.

Members will not be paid compensation, nor will they be considered Federal employees for any reason. No per diem, transportation or other expenses will be reimbursed for the cost of attending meetings of the Committee, regardless of the location.

Meetings

Except when there are special meetings, no more than four meetings will be held during a two-year period, in accordance with the Federal Advisory Committee Act. Regular meetings will be held at six-month intervals. An occasional special meeting may be held at the discretion of the chairperson and the members.

Meetings are open to public observers, including the press, unless special procedures have been followed to close a meeting to the public. In the event of an unavoidable absence of a member at a meeting, even though an alternate may not represent a member, a representative of the member's organization may attend the session as a nonparticipating observer, even if the meeting is closed to the public.

Meetings will generally be held at the U.S. Customs Service Headquarters in Washington, D.C. On occasion, meetings may be held outside of Customs Headquarters, generally at a Customs port.

Terms of Service

Initially, half the members (or as close to half as possible) will be appointed for a term of twelve months and the remainder of the members will be appointed for a term of twenty-four months. For example, should the Committee consist of seven industry members, three will be appointed for a term of twelve months and four will be appointed for a term of twenty-four months. Thereafter, members will serve for a period of twenty-four months. Members who served on the Committee during a prior term or terms are eligible to reapply for membership. However, it is expected that approximately half of the seats on the Committee will be filled with new members.

Applications for Membership

Any interested person wishing to serve on the Customs COBRA Fees Advisory Committee must provide the following: a statement of interest and reasons for application together with a complete professional biography or resume. In addition, applicants must state in their applications that they agree to submit to pre-appointment security and tax checks. There is no prescribed format for the application. Applicants may send a cover letter describing their interest and qualifications, along with a resume. Applications that were previously received for membership on the Committee will need to be resubmitted for consideration under this document.

Dated: June 16, 2000.
Raymond W. Kelly,
Commissioner of Customs.

[FR Doc. 00-15780 Filed 6-21-00; 8:45 am]

BILLING CODE 4820-02-P